DEPARTMENT OF COMMERCE

National Oceanic and Atmospheric Administration

RIN 0648-XO78

Marine Fisheries Advisory Committee; Public Meetings

AGENCY: National Marine Fisheries Service (NMFS), National Oceanic and Atmospheric Administration (NOAA), Commerce.

ACTION: Notice of open public meeting.

SUMMARY: Notice is hereby given of a meeting of the Marine Fisheries Advisory Committee (MAFAC). This will be the first meeting to be held in the calendar year 2009. Agenda topics are provided under the SUPPLEMENTARY INFORMATION section of this notice. All full Committee sessions will be open to the public.

DATES: The meetings will be held May 12-14, 2009, from 8:30 a.m. to 5 p.m.

ADDRESSES: The meetings will be held at the Monterey Conference Center, One Portola Plaza, Monterey, CA 93940; 831-646-3770.

FOR FURTHER INFORMATION CONTACT: Mark Holliday, MAFAC Executive Director; (301) 713-2239 x-120; e-mail: Mark.Holliday@noaa.gov.

SUPPLEMENTARY INFORMATION: As required by section 10(a)(2) of the Federal Advisory Committee Act, 5 U.S.C. App. 2, notice is hereby given of a meeting of MAFAC. MAFAC was established by the Secretary of Commerce (Secretary) on February 17, 1971, to advise the Secretary on all living marine resource matters that are the responsibility of the Department of Commerce. This committee advises and reviews the adequacy of living marine resource policies and programs to meet the needs of commercial and recreational fisheries, and environmental, State, consumer, academic, tribal, governmental and other national interests. The complete charter and summaries of prior meetings are located online at http://www.nmfs.noaa.gov/ocs/mafac/.

Matters To Be Considered

This agenda is subject to change.

The meeting will include discussion of various MAFAC administrative and organizational matters, including: subcommittee membership, chairmanship, upcoming workplans and recruitment of new members. Updates will be presented on Magnuson-Stevens Act implementation, NOAA budgets, and new administration transition information. The Committee will hear presentations and discuss policies and guidance on the following topics: a strategic plan for seafood safety and quality; fishery disasters; ocean acidification; fisheries sustainability monitoring and measurement; NOAA and NMFS strategic planning; Regional Fishery Management Council 5-year programmatic plans; and progress on catch share programs.

Special Accommodations

These meetings are physically accessible to people with disabilities. Requests for sign language interpretation or other auxiliary aids should be directed to Mark Holliday, MAFAC Executive Director; (301) 713-2239 x120 by 5 p.m. on May 1, 2009.

Dated: April 15, 2009.
Samuel D. Rauch III,
Deputy Assistant Administrator for Regulatory Programs, National Marine Fisheries Service.

[FR Doc. E9-9108 Filed 4-20-09; 8:45 am]

BILLING CODE 3510-22-S